DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: July 18, 2013, 10:00 a.m.

PLACE: Room 2C, 888 First Street, NE., Washington, DC 20426.

STATUS: Open.

MATTERS TO BE CONSIDERED: Agenda.

* Note—Items listed on the agenda may be deleted without further notice.

CONTACT PERSON FOR MORE INFORMATION: Kimberly D. Bose, Secretary, Telephone (202) 502-8400. For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

996TH—Meeting

Regular Meeting

July 18, 2013

10:00 a.m.

Item No | Docket No. | Company
ADMINISTRATIVE
A-1 | AD02-1-000 | Agency Business Matters.
A-2 | AD02-7-000 | Customer Matters, Reliability, Security and Market Operations
ELECTRIC
E-1 | ER13-897-000 | Louisville Gas and Electric Company and Kentucky Utilities Company.
| ER13-908-000 | Alabama Power Company.
| ER13-913-000 | Ohio Valley Electric Corporation
E-2 | ER13-366-000, ER13-367-000 | Southwest Power Pool, Inc.
| ER13-75-000 | Public Service Company of Colorado.
| ER13-100-000 | Kansas City Power & Light Company.
E-3 | EL12-104-000 | Interstate Power and Light Company v. ITC Midwest, LLC.
E-4 | RM05-5-022 | Standards for Business Practices and Communication Protocols for Public Utilities.
E-5 | RM13-11-000 | Frequency Response and Frequency Bias Setting Reliability Standard.
E-6 | RM12-19-000 | Revisions to Modeling, Data, and Analysis Reliability Standard.
E-7 | RM13-7-000 | Protection System Maintenance Reliability Standard.
E-8 | RM13-13-000 | Regional Reliability Standard BAL-002-WECC-2-Contingency Reserve.
E-9 | RC13-4-000 | South Louisiana Electric Cooperative Association.
E-10 | ER11-2715-000, ER11-2715-001, ER11-2715-003 | Interstate Power and Light Company and ITC Midwest LLC.
| EL10-68-000 | Resale Power Group of Iowa and WPPI Energy v. ITC.
| EL10-68-001 | Midwest LLC and Interstate Power and Light Company.
| EL09-71-001 | Resale Power Group of Iowa and WPPI Energy.
E-11 | ER10-2142-000 | ITC Midwest LLC and Interstate Power and Light Company.
E-12 | EL10-65-002 | Louisiana Public Service Commission v. Entergy Corporation, Entergy Services, Inc., Entergy Louisiana, LLC, Entergy Arkansas, Inc., Entergy Mississippi, Inc., Entergy New Orleans, Inc., Entergy Gulf States Louisiana, L.L.C., Entergy Texas, Inc.
E-13 | ER13-73-000 | Electric Energy, Inc.
E-14 | OMITTED
E-15 | OMITTED
E-16 | OMITTED
E-17 | OMITTED
E-18 | ER12-1178-002 | PJM Interconnection, L.L.C.
E-19 | OMITTED
E-20 | EL01-10-122 | Puget Sound Energy, Inc. v. All Jurisdictional Sellers of Energy and/or Capacity at Wholesale into Electric Energy and/or Capacity Markets in the Pacific Northwest, Including Parties to the Western System Power Pool Agreement.
E-21 | OMITTED
E-22 | RM11-24-000, AD10-13-000 | Third-Party Provision of Ancillary Services; Accounting and Financial Reporting for New Electric Storage Technologies.
E-23 | EC13-81-000 | Bangor Hydro Electric Company, Maine Public Service Company.
E-24 | ER13-1125-000 | Bangor Hydro Electric Company.
E-25 | ER12-550-001 | Southwest Power Pool, Inc.
E-26 | EL10-86-002, EL10-86-003 | Jeffers South, LLC v. Midwest Independent Transmission System Operator, Inc.
E-27 | ER12-1204-003, ER12-1204-004, ER12-2391-002, ER12-2391-003, (not consolidated) | PJM Interconnection, L.L.C.
E-28 | ER11-4100-001 | California Independent System Operator Corporation.
E-29 | ER11-4100-002, ER11-4100-003, ER11-3616-003, ER11-3616-004, ER11-3616-005 | California Independent System Operator Corporation.
MISCELLANEOUS
M-1 | RM13-17-000 | Communication of Operational Information Between Natural Gas Pipelines and Electric Transmission Operators.
GAS
G-1 | RM12-17-000 | Revisions to Procedural Regulations Governing Transportation by Intrastate Pipelines.
G-2 | RM12-18-000 | Revisions to Page 700 of FERC Form No. 6.
G-3 | IS13-17-000 | Enbridge Energy, Limited Partnership.
G-4 | OR13-15-000 | ExxonMobil Canada Energy, Flint Hills Resources, Canada, LP, Imperial Oil, NOVA Chemicals (Canada), Ltd., PBF Holding Company LLC and Toledo Refining Company LLC, Pennzoil-Quaker State Canada, Inc., (operating as Shell Trading Canada), Phillips 66 Canada ULC, St. Paul Park Refining Co., LLC, Suncor Energy Marketing, Inc., and United Refining Company v. Enbridge Energy, Limited Partnership.
G-5 | RP13-990-000 | ProLiance Energy, LLC.
G-6 | RP13-238-000, RP13-238-001, RP12-39-000, RP12-39-001, RP12-39-002, RP13-1040-000 | Algonquin Gas Transmission, LLC.
G-7 | RP13-237-000 | Texas Eastern Transmission, LP.
G-8 | IS10-399-003, IS11-146-000 | Enbridge Pipelines (Southern Lights) LLC.
G-9 | IS09-348-007, IS09-348-000, IS09-395-000, IS09-395-007, IS10-204-000, IS10-204-005, IS10-491-000, IS11-335-000, OR11-10-000 | BP Pipelines (Alaska) Inc.
| IS09-384-000, IS09-384-007, IS10-205-000, IS10-205-001, IS10-205-006, IS10-476-000, IS11-306-000 | ConocoPhillips Transportation Alaska, Inc.
| IS09-391-000, IS09-391-007, IS09-177-000, IS09-177-008, IS10-200-000, IS10-200-005, IS10-547-000, IS11-336-000 | ExxonMobil Pipeline Company.
| IS09-176-000, IS09-176-007, IS10-52-000, IS10-52-004, IS10-490-000, IS11-3-000, IS11-546-000, OR10-3-000, OR10-3-005 | Unocal Pipeline Company.
| IS10-54-000, IS10-54-004, IS10-496-000, IS11-328-000 (consolidated) | Koch Alaska Pipeline Company, L.L.C.
HYDRO
H-1 | UL11-1-001, P-2299-079 | Turlock Irrigation District and Modesto Irrigation District.
H-2 | P-14241-004 | Alaska Energy Authority.
CERTIFICATES
C-1 | CP12-497-000 | Transcontinental Gas Pipe Line Company, LLC.

Issued: July 11, 2013.
Kimberly D. Bose,
Secretary.

A free webcast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2013-17101 Filed 7-12-13; 11:15 am]

BILLING CODE 6717-01-P